DEPARTMENT OF HEALTH AND HUMAN SERVICES

National Institutes of Health

Center for Scientific Review; Amended Notice of Meeting

Notice is hereby given of a change in the meeting of the Motor Function, Speech and Rehabilitation Study Section, October 17, 2022, 9:00 a.m. to October 18, 2022, 8:00 p.m., National Institutes of Health, Rockledge II, 6701 Rockledge Drive, Bethesda, MD 20892 which was published in the Federal Register on September 07, 2022, 87 FR 54706, Doc 2022-19210. This meeting is being amended to change the Contact Person from Biao Tian to Stephanie Nagle-Emmens, Ph.D., Center for Scientific Review, National Institutes of Health, 6701 Rockledge Drive, Bethesda, MD., 301-594-6604. The meeting is closed to the public.

Dated: September 22, 2022.
Miguelina Perez,
Program Analyst, Office of Federal Advisory Committee Policy.

[FR Doc. 2022-20930 Filed 9-27-22; 8:45 am]

BILLING CODE 4140-01-P